NUCLEAR REGULATORY COMMISSION

[Docket No. 72-1050; NRC-2016-0231]

Interim Storage Partners, LLC; WCS Consolidated Interim Storage Facility

AGENCY: Nuclear Regulatory Commission.

ACTION: License amendment application; notice of docketing.

SUMMARY: The U.S. Nuclear Regulatory Commission (NRC) staff accepts and dockets a license amendment application for Special Nuclear Materials (SNM) License No. SNM-2515, submitted by Interim Storage Partners, LLC (ISP) for the WCS Consolidated Interim Storage Facility (CISF), located in Andrews County, TX, dated January 24, 2022. The requested amendment proposes administrative changes to the license to clarify the schedule for submitting certain required license amendment requests.

DATES: The license amendment request referenced in this document is available on January 24, 2022.

ADDRESSES: Please refer to Docket ID NRC-2016-0231 when contacting the NRC about the availability of information regarding this document. You may obtain publicly available information related to this document using any of the following methods:

• Federal Rulemaking Website: Go to https://www.regulations.gov and search for Docket ID NRC-2016-0231. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For problems with ADAMS, please contact the NRC's Public Document Room (PDR) reference staff at 1-800-397-4209, 301-415-4737, or by email to PDR.Resource@nrc.gov. The license amendment request and the NRC acceptance letter are available in ADAMS under Accession Nos. ML22024A142 and ML22054A243, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: John-Chau Nguyen, Office of Nuclear Material Safety and Safeguards, U.S. Nuclear Regulatory Commission, Washington, DC 20555-0001, telephone: 301-415-0262, email: John-Chau.Nguyen@nrc.gov.

SUPPLEMENTARY INFORMATION: On January 24, 2022, ISP submitted an application to the U.S. Nuclear Regulatory Commission (NRC or the Commission), in accordance with Part 72 of title 10 of the Code of Federal Regulations (10 CFR) “Licensing requirements for the independent storage of spent nuclear fuel and high-level radioactive waste, and reactor-related greater than Class C waste,” requesting an amendment to SNM-2515 for the WCS Consolidated Interim Storage Facility (CISF), located in Andrews County, TX. The license authorizes ISP to receive, possess, store, and transfer spent nuclear fuel and associated radioactive materials for a term of 40 years.

ISP requests that License Condition 17 of License SNM-2515 be revised to clarify the timing of mandatory license amendment submissions relating to the incorporation of technically relevant Aging Management Programs for certain spent fuel storage cask certificates of compliance that may be renewed and that are incorporated by reference in SNM-2515.

Pursuant to 10 CFR 72.16, the NRC has docketed the proposed Amendment No. 1 to SNM-2515 held by ISP for the receipt, possession, transfer, and storage of spent fuel at the WCS CISF, and is hereby publishing a notice of docketing in the Federal Register.

Dated: March 2, 2022.
For the Nuclear Regulatory Commission.
Christian J. Jacobs,
Acting Chief, Storage and Transportation Licensing Branch, Division of Fuel Management, Office of Nuclear Material Safety and Safeguards.

[FR Doc. 2022-04821 Filed 3-7-22; 8:45 am]

BILLING CODE 7590-01-P